DEPARTMENT OF STATE

[Public Notice: 9081]

Bureau of Political-Military Affairs, Directorate of Defense Trade Controls: Notifications to the Congress of Proposed Commercial Export Licenses

AGENCY: Department of State.

ACTION: Notice.

SUMMARY: Notice is hereby given that the Department of State has forwarded the attached Notifications of Proposed Export Licenses to the Congress on the dates indicated on the attachments pursuant to sections 36(c) and 36(d), and in compliance with section 36(f), of the Arms Export Control Act.

DATES: Effective: As shown on each of the 22 letters.

FOR FURTHER INFORMATION CONTACT: Ms. Lisa V. Aguirre, Directorate of Defense Trade Controls, Department of State, telephone (202) 663-2830; email DDTCResponseTeam@state.gov. ATTN: Congressional Notification of Licenses.

SUPPLEMENTARY INFORMATION: Section 36(f) of the Arms Export Control Act (22 U.S.C. 2778) mandates that notifications to the Congress pursuant to sections 36(c) and 36(d) must be published in the Federal Register when they are transmitted to Congress or as soon thereafter as practicable.

Following are such notifications to the Congress:

October 31, 2014 (Transmittal No. DDTC 14-116)

Honorable John A. Boehner, Speaker of the House of Representatives

Dear Mr. Speaker:

Pursuant to Section 36(c) of the Arms Export Control Act, I am transmitting a certification of a proposed authorization for the export of firearms, parts and components that are controlled under Category I of the United States Munitions List in the amount of $1,000,000 or more.

The transaction contained in the attached certification involves the export of various firearm, components, and accessories to Canada for commercial sales.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs

October 31, 2014 (Transmittal No. DDTC 14-117)

Honorable John A. Boehner, Speaker of the House of Representatives

Dear Mr. Speaker:

Pursuant to Section 36(d) of the Arms Export Control Act, I am transmitting the certification of a proposed license amendment for the export of defense articles, including technical data, and defense services for the manufacture of significant military equipment abroad.

The transaction contained in the attached certification involves the export of defense articles, including technical data, defense services and manufacture know-how for the design, manufacture and integration of the Weapons Bay Door Engine Inlet Ducts for all variants of the F-35 Lightning II aircraft to Italy and the Netherlands.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs

October 31, 2014 (Transmittal No. DDTC 14-090)

Honorable John A. Boehner, Speaker of the House of Representatives

Dear Mr. Speaker:

Pursuant to Section 36(c) of the Arms Export Control Act, I am transmitting certification of a proposed license for the export of firearm parts and components controlled under Category I of the United States Munitions List in the amount of $1,000,000 or more.

The transaction contained in the attached certification involves the export of M60E4/Mk43 Mod1 7.62mm machine guns for use by the Tunisian Ministry of Interior for internal security and anti-terrorism protection.

The United States government is prepared to license the export of these items having taken into account political, military, economic, human rights, and arms control considerations.

More detailed information is contained in the formal certification which, though unclassified, contains business information submitted to the Department of State by the applicant, publication of which could cause competitive harm to the United States firm concerned.

Sincerely,

Thomas D. Sullivan,

Acting Assistant Secretary, Legislative Affairs

October 31, 2014 (Transmittal No. DDTC 14-092)

Honorable John A. Boehner, Speaker of the House of Representatives

Dear Mr. Speaker:

Pursuant to Section 36(c) and 36(d) of the Arms Export Control Act, we are transmitting certification of a proposed license for the manufacture of significant military equipment abroad and the export of defense articles, including technical data, and defense services in the amount of $100,000,000 or more.

The transaction contained in the attached certification involves the transfer of defense articles, to include technical data, and defense services to support the design, development, production, integration, and manufacture of the Rolling Airframe Missile (RAM) Guided Missile Weapon System (GMWS).

The United States government is prepared to license the export of these items having taken into account political, military, economic, human rights, and arms control considerations.

More detailed information is contained in the formal certification which, though unclassified, contains business information submitted to the Department of State by the applicant, publication of which could cause competitive harm to the United States firm concerned.

Sincerely,

Thomas D. Sullivan,

Acting Assistant Secretary, Legislative Affairs

October 31, 2014 (Transmittal No. DDTC 14-101)

Honorable John A. Boehner, Speaker of the House of Representatives

Dear Mr. Speaker:

Pursuant to Section 36(c) of the Arms Export Control Act, I am transmitting certification of a proposed license for the export of defense articles, including technical data, and defense services in the amount of $100,000,000 or more.

The transaction contained in the attached certification involves the export of defense articles, including technical data, and defense services to Norway to support the integration of Infrared (IR) Thermal Imaging Modules into Remote Weapons Stations (RWS) for sales to the U.S. government.

The United States government is prepared to license the export of these items having taken into account political, military, economic, human rights, and arms control considerations.

More detailed information is contained in the formal certification which, though unclassified, contains business information submitted to the Department of State by the applicant, publication of which could cause competitive harm to the United States firm concerned.

Sincerely,

Thomas D. Sullivan,

Acting Assistant Secretary, Legislative Affairs

October 31, 2014 (Transmittal No. DDTC 14-100)

Honorable John A. Boehner, Speaker of the House of Representatives

Dear Mr. Speaker:

Pursuant to Section 36(c) of the Arms Export Control Act, I am transmitting certification of a proposed license for the export of defense articles, including technical data, and defense services in the amount of $100,000,000 or more.

The transaction contained in the attached certification involves the export of defense articles, including technical data, and defense services to Canada and Spain to support the manufacture, assembly, and testing of Data Acquisition Converters (DACs), Data Converter Cabinets (DCCs), and spare components and assemblies for the Mk-99 Fire Control System (FCS) and the AN/SPY-1D(V) transmitter group for the Aegis Combat System.

The United States government is prepared to license the export of these items having taken into account political, military, economic, human rights, and arms control considerations.

More detailed information is contained in the formal certification which, though unclassified, contains business information submitted to the Department of State by the applicant, publication of which could cause competitive harm to the United States firm concerned.

Sincerely,

Thomas D. Sullivan,

Acting Assistant Secretary, Legislative Affairs

October 10, 2014 (Transmittal No. DDTC 14-084)

Honorable Joseph R. Biden, President of the Senate

Dear Mr. President:

Pursuant to Section 36(c) of the Arms Export Control Act, I am transmitting certification of a proposed license for the export of firearm parts and components controlled under Category I of the United States Munitions List in the amount of $1,000,000 or more.

The attached certification involves the export of GAU-19/B Gatling Gun Systems for exclusive use by the UAE Joint Aviation Command.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs

October 15, 2014 (Transmittal No. DDTC 14-111)

Honorable John A. Boehner, Speaker of the House of Representatives

Dear Mr. Speaker:

Pursuant to Section 36(c) of the Arms Export Control Act, I am transmitting the certification of an amendment to a manufacturing license agreement for the export of defense articles, including technical data, and defense services in the amount of $100,000,000 or more.

The transaction contained in the attached certification involves the export of defense articles, including technical data, defense services and manufacture know-how for the design, manufacture and integration of the Weapons Bay Door Drive System for all variants of the F-35 Lightning II aircraft.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs

October 21, 2014 (Transmittal No. DDTC 14-099)

Honorable John A. Boehner, Speaker of the House of Representatives

Dear Mr. Speaker:

Pursuant to Section 36(c) of the Arms Export Control Act, I am transmitting certification of a proposed amendment to a technical assistance agreement for the export of defense articles, including technical data, and defense services in the amount of $100,000,000 or more.

The transaction contained in the attached certification involves the export of defense articles, including technical data, and defense services to Canada to support the manufacture of precision optical subsystems, opto-mechanical major assemblies, and optical components for the AIM-9X Sidewinder Missile.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs

October 24, 2014 (Transmittal No. DDTC 14-115)

Honorable John A. Boehner, Speaker of the House of Representatives

Dear Mr. Speaker:

Pursuant to Section 36(d) of the Arms Export Control Act, I am transmitting the enclosed certification of a proposed retransfer of Major Defense Equipment, including technical data in the amount of $14,000,000 or more.

The transaction contained in the attached certification involves the export of defense articles, including technical data, and defense services to the Government of Peru for the acquisition of five Super Sea Sprite SH-2G helicopters.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs

November 26, 2014 (Transmittal No. DDTC 14-122)

Honorable John A. Boehner, Speaker of the House of Representatives

Dear Mr. Speaker:

Pursuant to Section 36(c) of the Arms Export Control Act, I am transmitting certification of a proposed export of defense articles, including technical data, and defense services in the amount of $50,000,000 or more.

The transaction contained in the attached certification involves the transfer of defense articles, to include technical data, and defense services to Bermuda, Canada, France, Germany, Hong Kong, Indonesia, Japan, Mexico, the Philippines, Singapore, Spain, and Sweden for design, development, manufacture, test, long-term support, and on-ground delivery of commercial communication satellites to Asia Broadcast Satellite Holdings Ltd. (ABS) in Bermuda as part of the ABS/Satelites Mexicanos, SA. de C.V. (SATMEX) joint program.

The United States government is prepared to license the export of these items having taken into account political, military, economic, human rights, and arms control considerations.

More detailed information is contained in the formal certification which, though unclassified, contains business information submitted to the Department of State by the applicant, publication of which could cause competitive harm to the United States firm concerned.

Sincerely,

Thomas D. Sullivan,

Acting Assistant Secretary, Legislative Affairs

November 26, 2014 (Transmittal No. DDTC 14-109)

Honorable John A. Boehner, Speaker of the House of Representatives

Dear Mr. Speaker:

Pursuant to Section 36(c) of the Arms Export Control Act, I am transmitting certification of a proposed license for the export of defense articles, to include technical data, and defense services in the amount of $50,000,000 or more.

The transaction contained in the attached certification involves the transfer of defense articles, to include technical data, and defense services to Bermuda, Canada, France, Germany, Hong Kong, Indonesia, Japan, Mexico, the Philippines, Singapore, Spain, and Sweden for design, development, manufacture, test (including in-orbit testing), long-term support, and on-ground delivery of commercial communication satellites to Satelites Mexicanos, S.A. de C.V. (SATMEX) as part of the Asia Broadcast Satellite Holding Ltd. (ABS)/SATMEX joint program.

The United States government is prepared to license the export of these items having taken into account political, military, economic, human rights, and arms control considerations.

More detailed information is contained in the formal certification which, though unclassified, contains business information submitted to the Department of State by the applicant, publication of which could cause competitive harm to the United States firm concerned.

Sincerely,

Thomas D. Sullivan,

Acting Assistant Secretary, Legislative Affairs

November 26, 2014 (Transmittal No. DDTC 14-102)

Honorable John A. Boehner, Speaker of the House of Representatives

Dear Mr. Speaker:

Pursuant to Section 36(c) of the Arms Export Control Act, I am transmitting, certification of a proposed license for the export of defense articles, to include technical data, and defense services in the amount of $100,000,000 or more.

The transaction contained in the attached certification involves the transfer of defense articles, to include technical data, and defense services to support the design, manufacture, and delivery of Japanese geostationary communications satellite-15 (JCSAT-15) and JCSAT-16 satellites.

The United States government is prepared to license the export of these items having taken into account political, military, economic, human rights, and arms control considerations.

More detailed information is contained in the formal certification which, though unclassified, contains business information submitted to the Department of State by the applicant, publication of which could cause competitive harm to the United States firm concerned.

Sincerely,

Thomas D. Sullivan,

Acting Assistant Secretary, Legislative Affairs

November 26, 2014 (Transmittal No. DDTC 14-112)

Honorable John A. Boehner, Speaker of the House of Representatives

Dear Mr. Speaker:

Pursuant to Sections 36(c) and 36(d) of the Arms Export Control Act, I am transmitting certification of a proposed license for the manufacture of significant military equipment abroad and the export of defense articles, including technical data, and defense services in the amount of $1,000,000 or more.

The transaction contained in the attached certification involves the export of defense articles, including technical data, and defense services to Canada to support the development and manufacture of component parts of rifles.

The United States government is prepared to license the export of these items having taken into account political, military, economic, human rights, and arms control considerations.

More detailed information is contained in the formal certification which, though unclassified, contains business information submitted to the Department of State by the applicant, publication of which could cause competitive harm to the United States firm concerned.

Sincerely,

Thomas D. Sullivan,

Acting Assistant Secretary, Legislative Affairs

November 26, 2014 (Transmittal No. DDTC 14-107)

Honorable John A. Boehner, Speaker of the House of Representatives

Dear Mr. Speaker:

Pursuant to Section 36(c) of the Arms Export Control Act, I am transmitting certification of an amendment to a technical assistance agreement for the export of defense articles, including technical data, and defense services in the amount of $100,000,000 or more.

The transaction contained in the attached certification involves the export of defense articles, including technical data, and defense services for the retrofit and support of C-130J aircraft for end-use by the Canadian Department of National Defence.

The United States government is prepared to license the export of these items having taken into account political, military, economic, human rights, and arms control considerations.

More detailed information is contained in the formal certification which, though unclassified, contains business information submitted to the Department of State by the applicant, publication of which could cause competitive harm to the United States firm concerned.

Sincerely,

Thomas D. Sullivan,

Acting Assistant Secretary, Legislative Affairs

December 01, 2014 (Transmittal No. DDTC 14-064)

Honorable John A. Boehner, Speaker of the House of Representatives

Dear Mr. Speaker:

Pursuant to Section 36(c) of the Arms Export Control Act, I am transmitting certification of a proposed license amendment for the export of defense articles, including technical data, and defense services in the amount of $50,000,000 or more.

The transaction contained in the attached certification involves the export of defense articles, including technical data, and defense services to the United Arab Emirates, the United Kingdom, France, and Saudi Arabia to support the fielding, integration, installation, operation, training, testing, maintenance, and warranty repair of the Emirates Air Defense Ground Environment—Transformation (EADGE-T) program.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs

December 15, 2014 (Transmittal No. DDTC 14-104)

Honorable John A. Boehner, Speaker of the House of Representatives

Dear Mr. Speaker:

Pursuant to Section 36(c) of the Arms Export Control Act, I am transmitting certification of a proposed license amendment for the export of defense articles, including technical data, and defense services in the amount of $25,000,000 or more.

The transaction contained in the attached certification involves the export of defense articles, including technical data, and defense services to the Republic of Korea to support the integration, installation, operation, training, shipboard checkout testing, qualification, organizational and intermediate level maintenance and repair (gun and ammo handling system), evaluation, failure diagnosis, ORDALT installation, and evaluation of the licensed production of the Phalanx Block 1B Close-In Weapon System (CIWS Blk 1B).

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs

December 19, 2014 (Transmittal No. DDTC 14-125)

Honorable John A. Boehner, Speaker of the House of Representatives

Dear Mr. Speaker:

Pursuant to Section 36(c) of the Arms Export Control Act, I am transmitting certification of a proposed license for the export of defense articles, including technical data, and defense services in the amount of $100,000,000 or more.

The transaction contained in the attached certification involves the export of defense articles, including technical data, and defense services to support the establishment of an F-35 aircraft Final Assembly and Checkout (FACO) facility in Nagoya, Japan for end use by the Japan Air Self Defense Force.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs

January 26, 2015 (Transmittal No. DDTC 14-127)

Honorable John A. Boehner, Speaker of the House of Representatives

Dear Mr. Speaker:

Pursuant to Section 36(c) of the Arms Export Control Act, I am transmitting certification of a proposed license amendment for the export of defense articles, to include technical data, and defense services in the amount of $50,000,000 or more.

The transaction contained in the attached certification involves the transfer of defense articles, to include technical data, and defense services for upgrade of current Swiss simulator training devices to reflect the same configuration as Swiss F/A-18 aircraft to support the F/A-18 Tactical Operational Flight Trainer Program for Switzerland.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs

January 26, 2015 (Transmittal No. DDTC 14-137)

Honorable John A. Boehner, Speaker of the House of Representatives

Dear Mr. Speaker:

Pursuant to Section 36(c) of the Arms Export Control Act, I am transmitting certification of a proposed license for the export of firearm parts and components abroad controlled under Category I of the United States Munitions List in amount of $1,000,000 or more.

The transaction contained in the attached certification involves the export of semi-automatic pistols, semi-automatic rifles, magazines, and accessories to Poland for commercial resale in Poland only.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs

January 26, 2015 (Transmittal No. DDTC 14-130)

Honorable John A. Boehner, Speaker of the House of Representatives

Dear Mr. Speaker:

Pursuant to Section 36(c) of the Arms Export Control Act, I am transmitting certification of a proposed license for the export of firearm parts and components abroad controlled under Category I of the United States Munitions List in amount of $1,000,000 or more.

The transaction contained in the attached certification involves the export of Sig Sauer Model P229 Pistols to Trinidad and Tobago for use by the Trinidad and Tobago Police Service.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs

January 26, 2015 (Transmittal No. DDTC 14-106)

Honorable John A. Boehner, Speaker of the House of Representatives

Dear Mr. Speaker:

Pursuant to Section 36(c) of the Arms Export Control Act, I am transmitting certification of a proposed license for the export of firearm parts and components controlled under Category I of the United States Munitions List in the amount of $1,000,000 or more.

The transaction contained in the attached certification involves the export of R0977 M4 Carbine semi-automatic rifles, caliber 5.56mm and 30 round magazines for use by the Army of Honduras.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs

Dated: March 25, 2015.
Lisa V. Aguirre,
Director of Management, Office of Defense Trade Controls Management, Department of State.

[FR Doc. 2015-07986 Filed 4-6-15; 8:45 am]

BILLING CODE CODE 4710-25-P